DEPARTMENT OF HOMELAND SECURITY

Establishment of the U.S. Immigration and Customs Enforcement Advisory Committee on Family Residential Centers and Solicitation of Nominations for Membership

AGENCY: U.S. Immigration and Customs Enforcement, DHS.

ACTION: Notice of establishment of advisory committee and solicitation of membership nominations.

SUMMARY: The Department of Homeland Security (DHS) announces the establishment of the U.S. Immigration and Customs Enforcement (ICE) Advisory Committee on Family Residential Centers (ACFRC) and invites the public to nominate individuals for one-year, two-year, and three-year term appointments.

DATES: Submit nominations for committee membership by August 1, 2015.

ADDRESSES: Nominations must be in writing and be submitted to: John Amaya, Senior Advisor to the Director, U.S. Immigration and Customs Enforcement, Office of the Director, 500 12th Street SW., 11th Floor, Washington, DC 20536; or by email to ICE_ACFRC@ice.dhs.gov.

FOR FURTHER INFORMATION CONTACT: John Amaya at the above address or by telephone 202-732-3000 or email ICE_ACFRC@ice.dhs.gov.

SUPPLEMENTARY INFORMATION:

I. Background and Authority

Under the Secretary of DHS's authority in Title 6, United States Code (U.S.C.), section 451, this Committee is established in accordance with and operates under the provisions of the Federal Advisory Committee Act (FACA) (Title 5, U.S.C., Appendix). The committee will provide advice and recommendations to the Secretary of DHS through the Assistant Secretary of ICE on matters concerning ICE's family residential centers on matters relating to detention management, family and youth services, health, and education.

II. Structure

The Committee shall be composed of up to 15 members who are appointed by and serve at the pleasure of the Secretary of DHS. The membership shall consist of experts and advocates from the fields of primary education, immigration law, physical and mental health, trauma-informed services, family and youth services, detention management, and detention reform, and other fields as the Secretary determines to be appropriate. Members will be appointed to represent their respective academic institution or organization and will not be Special Government Employees (SGEs) as defined in Title 18, U.S.C., section 202(a).

For the initial appointments to the Committee, approximately one-third of the members shall serve 1-year terms of office, one-third shall serve 2-year terms of office, and one-third shall serve 3-year terms of office. Thereafter, members will serve terms of office of up to three years, with approximately one-third of members' terms of office expiring each year. A member appointed to fill an unexpired term serves the remainder of that term. ICE and DHS will strive to fill a Committee vacancy no later than six months after the position is vacated. In the event the Committee terminates, all appointments to the Committee terminate.

The Designated Federal Official (DFO) may approve the establishment of subcommittees for any purpose consistent the Committee's charter. Subcommittees shall be composed of Committee members as determined by the DFO. Subcommittees may not work independently of the chartered Committee and must present their work to the Committee for full deliberation and discussion. Subcommittees have no authority to make decisions on behalf of the Committee and may not report directly to the Federal Government or any other entity.

The Committee is expected to meet two times each year. Additional meetings may be held with the approval of the DFO.

III. Compensation

Members may be reimbursed for travel and per diem, and all travel for Committee business must be approved in advance by the DFO.

IV. Nominations

ICE and DHS will consider nominations of all qualified individuals to ensure that the Committee includes the areas of subject matter expertise noted above (see “Structure”). Individuals may nominate themselves or other individuals, and professional associations and organizations may nominate one or more qualified persons for membership on the Committee. Nominations must state that the nominee is willing to serve as a member of the Committee. Potential candidates will be asked to provide detailed information concerning financial interests, consultancies, research grants, and/or contracts that might be affected by recommendations of the Committee to permit evaluation of possible sources of conflicts of interests.

A nomination package should include the following information for each nominee:

(1) A letter of nomination stating the name, affiliation, and contact information for the nominee, the basis for the nomination (i.e., what specific attributes recommend him/her for service in this capacity), and the nominee's field(s) of expertise.

(2) A biographical sketch of the nominee and a copy of his/her curriculum vitae and/or resume.

(3) The name, return mailing address, email address, and daytime phone number at which the nominator can be contacted.

To ensure a diverse nominee pool, ICE and DHS encourage nominations for appropriately qualified candidates of every gender, age, race, ethnicity, national origin, religion, sexual orientation, gender identity, disability, and geographic region.

All nominations should be provided in a single, complete package. All nominations should be sent to the submission address and contact provided above.

Please note this notice is not intended to be the exclusive method by which ICE and DHS will solicit membership nominations and expressions of interest to identify qualified candidates. However, all candidates for membership on the Committee will be subject to the same evaluation criteria.

Dated: July 23, 2015.
Sarah R. Saldaña,
Director, U.S. Immigration and Customs Enforcement.

[FR Doc. 2015-18581 Filed 7-28-15; 8:45 am]

BILLING CODE 9110-28-P